ENVIRONMENTAL PROTECTION AGENCY

[EPA-HQ-OLEM-2018-0317, FRL-9981-12-OLEM]

Agency Information Collection Activities; Proposed Collection; Comment Request; Criteria for Classification of Solid Waste Disposal Facilities and Practices, Recordkeeping and Reporting Requirements (Renewal)

AGENCY: Environmental Protection Agency (EPA).

ACTION: Notice.

SUMMARY: The Environmental Protection Agency (EPA) is planning to submit the information collection request (ICR), Criteria for Classification of Solid Waste Disposal Facilities and Practices, Recordkeeping and Reporting Requirements (Renewal), (EPA ICR No. 1745.09, OMB Control No. 2050-0154) to the Office of Management and Budget (OMB) for review and approval in accordance with the Paperwork Reduction Act (PRA). Before doing so, the EPA is soliciting public comments on specific aspects of the proposed information collection as described below. This is a proposed extension of the ICR, which is currently approved through November 30, 2018. An Agency may not conduct or sponsor and a person is not required to respond to a collection of information unless it displays a currently valid OMB control number.

DATES: Comments must be submitted on or before October 2, 2018.

ADDRESSES: Submit your comments, referencing by Docket ID No. EPA-HQ-OLEM-2018-0317, online using www.regulations.gov (our preferred method), by email to rcra-docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: Craig Dufficy, Materials Recovery and Waste Management Division, Office of Resource Conservation and Recovery, mailcode 5304P, Environmental Protection Agency, 1200 Pennsylvania Ave. NW, Washington, DC 20460; telephone number: 703-308-9037; fax number: 703-308-8686; email address: Dufficy.craig@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, the EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. The EPA will consider the comments received and amend the ICR as appropriate. The final ICR package will then be submitted to OMB for review and approval. At that time, the EPA will issue another Federal Register notice to announce the submission of the ICR to OMB and the opportunity to submit additional comments to OMB.

Abstract: 40 Part 257 Subpart B established specific standards and reporting and recordkeeping requirements for owners and operators of new, existing, and lateral expansions of existing non-municipal non-hazardous waste disposal units that receive conditionally exempt small quantity generator (CESQG) hazardous wastes. In order to effectively implement and enforce 40 CFR part 257 Subpart B on a State level, owners/operators of construction and demolition waste landfills that receive CESQG hazardous wastes have to comply with the reporting and recordkeeping requirements.

Form numbers: None.

Respondents/affected entities: Entities potentially affected by this action are States.

Respondent's obligation to respond: mandatory (40 CFR 257).

Estimated number of respondents: 152.

Frequency of response: On occasion.

Total estimated burden: 11,215. Burden is defined at 5 CFR 1320.03(b).

Total estimated cost: $1,577,659 which includes $936,491 annualized capital or O&M costs.

Changes in estimates: The burden hours are likely to stay substantially the same.

Dated: July 16, 2018.
Barnes Johnson,
Director, Office of Resource Conservation and Recovery.

[FR Doc. 2018-16690 Filed 8-2-18; 8:45 am]

BILLING CODE 6560-50-P